DEPARTMENT OF HOUSING AND URBAN DEVELOPMENT

[Docket No. FR-5329-N-01]

Notice of Certification and Funding of State and Local Fair Housing Enforcement Agencies Under the Fair Housing Assistance Program; Request for Comments

AGENCY: Office of the Assistant Secretary for Fair Housing and Equal Opportunity, HUD.

ACTION: Notice.

SUMMARY: Through the Fair Housing Assistance Program (FHAP), HUD provides funding to State and local fair housing agencies that enforce laws that HUD has deemed substantially equivalent to the Fair Housing Act. The Department's FHAP regulations provide that the Assistant Secretary for Fair Housing and Equal Opportunity may publish, on an annual basis, a notice that identifies all agencies that received interim certification during the prior calendar year, and to solicit public comment on the State or local fair housing laws of the interim agencies, including the performance of agencies in enforcing such laws. Today's Federal Register publication is being issued in accordance with this regulatory provision.

DATES: Comment Due Date: August 27, 2009.

ADDRESSES: Interested persons are invited to submit comments to the FHAP Division, Office of Enforcement, Office of Fair Housing and Equal Opportunity, Department of Housing and Urban Development, 451 7th Street, SW., Room 5206, Washington, DC 20410-0500. Communications must refer to the above docket number and title. Facsimile (FAX) comments will not be accepted.

FOR FURTHER INFORMATION CONTACT: Kenneth J. Carroll, Director, FHAP Division, Office of Enforcement, Office of Fair Housing and Equal Opportunity, Department of Housing and Urban Development, 451 7th Street, SW., Room 5206, Washington, DC 20410-0500; telephone number 202-402-7044 (this is not a toll-free number). Persons with speech or hearing impairments may contact the FHAP Division by calling 1-800-290-1671 (this is a toll-free number), or 1-800-877-8339 (the Federal Information Relay Service TTY) (this is a toll-free number).

SUPPLEMENTARY INFORMATION:

I. Background

Through the Fair Housing Assistance Program (FHAP), HUD provides funding to State and local fair housing agencies that enforce laws HUD has deemed substantially equivalent to the Fair Housing Act (42 U.S.C. 3601 et seq.). HUD's regulations for the FHAP are codified at 24 CFR part 115 (entitled “Certification and Funding of State and Local Fair Housing Enforcement Agencies”).

In order to participate in FHAP, HUD's Assistant Secretary for Fair Housing and Equal Opportunity (FHEO) must first determine whether a State or local law, on its face, provides rights, procedures, remedies, and judicial review provisions that are substantially equivalent to the Federal Fair Housing Act. An affirmative conclusion that the State or local law is substantially equivalent on its face will result in HUD offering interim certification to the agency. During the period of interim certification, HUD's Assistant Secretary for FHEO will determine whether the State or local law, in operation, affords rights, procedures, remedies, and the availability of judicial review in a manner substantially equivalent to the Fair Housing Act. An affirmative conclusion during interim certification that the State or local law is substantially equivalent both on its face and in operation will result in HUD offering certification to the agency.

Certification is for a term of 5 years, during which the agency's ability to maintain certification is evaluated. After the five years of certification, if the Assistant Secretary for FHEO determines that the agency continues to qualify, HUD will renew the agency's certification for another 5 years.

II. This Notice

The FHAP regulations at 24 CFR 115.102(b) provide that the Assistant Secretary for FHEO may, on an annual basis, publish a notice in the Federal Register that identifies all agencies that received interim certification during the preceding year. The notice must invite the public to comment on the State or local laws of the new interim agencies, including on the performance of the agencies in enforcing their laws.

In accordance with § 115.102(b) of the FHAP regulations, HUD seeks public comment on the following agencies that were granted interim certification during the prior calendar year:

• Westchester County Human Rights Commission (New York).

• Oregon Bureau of Labor and Industries (Oregon).

• City of Evansville-Vanderburgh County Human Relations Commission (Indiana).

Dated: July 1, 2009.
John Trasviña,
Assistant Secretary for Fair Housing and Equal Opportunity.

[FR Doc. E9-17853 Filed 7-27-09; 8:45 am]

BILLING CODE 4210-67-P